DEPARTMENT OF HEALTH AND HUMAN SERVICES

Office of Inspector General

Program Exclusions: January 2006

AGENCY: Office of Inspector General, HHS.

ACTION: Notice of program exclusions.

During the month of January 2006, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name, address | Effective date
PROGRAM-RELATED CONVICTIONS
ALEXANDERIAN, HARRY, WEST PITTSTON, PA | 2/20/2006
BERMUDEZ, ROBERTO, MIAMI, FL | 2/20/2006
CANO, ORLANDO, NORCROSS, GA | 2/20/2006
CHALA, ARAYMA, MIRAMAR, FL | 2/20/2006
CHANG, MAY, SAN DIEGO, CA | 2/20/2006
CLEMENTS, NICOLE, SHERWOOD, OR | 2/20/2006
CONNER, CHERRY, CLAYTON, AL | 2/20/2006
CYR, MELISSA, TOPEKA, KS | 2/20/2006
DEL POZZO, ZOILA, SPRINGHILL, FL | 2/20/2006
DEMORALES, OSVALDO, MIAMI, FL | 2/20/2006
DURBEN, CARYN, PLAINVIEW, TX | 2/20/2006
ELAMIN, SALAH, RICHMOND, VA | 2/20/2006
ELBASHER, ABDELSHAKOOR, GLEN ALLEN, PA | 2/20/2006
ELDICK, MAHMOUD, CRESCENT CITY, FL | 2/20/2006
ELLIOTT, JOSEPH, MIAMI, FL | 2/20/2006
ENGLEBERT, BARBARA, BROOKLYN, NY | 2/20/2006
EXPOSITO, JUAN, PENSACOLA, FL | 2/20/2006
FALESBORK, RAQUEL, HYDE PARK, MA | 2/20/2006
FANTASIA, ROBERT, GREENVILLE, OH | 2/20/2006
FORCADA, JORGE, LEXINGTON, KY | 2/20/2006
GOGGANS, CHRISTA, TACOMA, WA | 2/20/2006
GRATE, ROCHELLE, GEORGETOWN, SC | 2/20/2006
HENRY, MARK, DUPONT, WA | 2/20/2006
HEU, DANG, KANSAS CITY, KS | 2/20/2006
JACK A KAUFMAN, D P M, P C, FARMINGTON HILLS, MI | 2/20/2006
JOHNSON, CYNTHIA, VICTORIA, TX | 2/20/2006
JOHNSON, KEVIN, MILWAUKEE, WI | 2/20/2006
JONES, DEBRA, FRESNO, CA | 2/20/2006
JORGENSON, MARJORY, WAUPUN, WI | 2/20/2006
KALUNTA, COSMAS, CHINO HILLS, CA | 2/20/2006
LANCASTER, EDWARD, LANCASTER, PA | 2/20/2006
LEWIS, TENISHA, EDMOND, OK | 2/20/2006
LOFLING, KASANDRA, LONG BEACH, WA | 2/20/2006
MARTINEZ, ELIEZER, BRIDGETON, NJ | 2/20/2006
MEJIAS, MARGARITA, MIAMI, FL | 2/20/2006
MESA, DAFNE, COLEMAN, FL | 2/20/2006
MITCHELL, CLARK, PENSACOLA, FL | 2/20/2006
MOSES, PAMELA, ROCKFORD, IL | 2/20/2006
PRITZ, NICOLE, TOPEKA, KS | 2/20/2006
RAMIREZ, MARUJA, MIAMI, FL | 2/20/2006
SANCHEZ, ELAYNE, DANBURY, CT | 2/20/2006
SARAIVA, WILLIAMS, IRVINE, CA | 2/20/2006
SLATON, MARION, BATON ROUGE, LA | 2/20/2006
TANSLEY, MARGARET, NEWARK, DE | 2/20/2006
TATE, RISHELL, ARDMORE, OK | 2/20/2006
WANG, JIING, EL MONTE, CA | 2/20/2006
WILLIAMS, FLORA, HOMINY, OK | 2/20/2006
FELONY CONVICTION FOR HEALTH CARE FRAUD
AMONTOS, BONIFACIO, PASADENA, CA | 2/20/2006
BAYDOUN, ROBIA, DEARBORN HEIGHTS, MI | 2/20/2006
BRETON, STEPHANIE, FAIRFIELD, ME | 2/20/2006
CAMPBELL, JOHN, NASHPORT, OH | 2/20/2006
CANET, FRANCISCO, RANCHO PALOS VERDES, CA | 2/20/2006
CARCHIA, ETTORE, MANAHAWKIN, NJ | 2/20/2006
CARTOZIAN, ANNETTE, TIGARD, OR | 2/20/2006
CHAVEZ, RACHEL, REEDLEY, CA | 2/20/2006
DEARBORN PHARMACY, INC, DEARBORN, MI | 2/20/2006
FERRO, LOUIE, INDEPENDENCE, MO | 2/20/2006
GIBSON, JULIE, LANCASTER, KY | 2/20/2006
GROOTHAND, KIMBERLY, SANFORD, ME | 2/20/2006
HAROLD F FARBER, MD, PC, ELKINS PLACE, PA | 2/20/2006
KING, MICHAEL, MANTECA, CA | 2/20/2006
LEININGER, VANESSA, WILSONVILLE, OR | 2/20/2006
LEWIS, VICTORIA, LOUISVILLE, KY | 2/20/2006
LU, HONG, ALBUQUERQUE, NM | 2/20/2006
MOLMENTI, LUIS, PLYMOUTH, MA | 2/20/2006
MORENO, ELGEN, LOS ANGELES, CA | 2/20/2006
NOURSE, MATTHEW, LUCASVILLE, OH | 2/20/2006
PARROTT, LISA, BENTON, KY | 2/20/2006
SHEADE, ROBERT, BUCKEYE, AZ | 2/20/2006
SMITH, MICHELLE, CLEVELAND, OH | 2/20/2006
SNOW, WARD, BREWER, ME | 2/20/2006
TUTTLE, LISA, GORHAM, ME | 2/20/2006
FELONY CONTROL SUBSTANCE CONVICTION
BAILEY, PATRICIA, COVINGTON, LA | 2/20/2006
BAXLEY, LISA, BARTOW, FL | 2/20/2006
BEHRENDT, MICHELLE, SEGUIN, TX | 2/20/2006
BOWERS, DIONNA, ROCKLIN, CA | 2/20/2006
DECKER, LORY, LOUISVILLE, KY | 2/20/2006
FERST, KENNETH, VALLEY STREAM, NY | 2/20/2006
KATO, JENNIFER, CAPE CORAL, FL | 2/20/2006
LOERA, ROSE, SAN ANTONIO, TX | 2/20/2006
LUKEE, TRACEY, LOUISVILLE, KY | 2/20/2006
MARCINAK, LESLIE, JACKSONVILLE, FL | 2/20/2006
MCKELLAR, MONICA, FT WORTH, TX | 2/20/2006
MITUNIEWICZ, CHRISTINA, PORTLAND, OR | 2/20/2006
RICE, JOLEEN, PHOENIX, AZ | 2/20/2006
ROBERTS, ALVIN, HOMINY, OK | 2/20/2006
SHANER, BRENDA, NICHOLASVILLE, KY | 2/20/2006
VILLALPANDO, SHEILA, COTTONWOOD, AZ | 2/20/2006
WILSON, JUDITH, KEOSAUQUA, IA | 2/20/2006
PATIENT ABUSE/NEGLECT CONVICTIONS
APHAYVONG, VIVA, FRESNO, CA | 2/20/2006
BEALS, JAIME, DERBY, NY | 2/20/2006
BRAKEBILL, DOROTHY, CONWAY, AR | 2/20/2006
CARDONA, CELIA, FONTANA, CA | 2/20/2006
HARPER, SHARON, TULSA, OK | 2/20/2006
LANDRIGAN, VICTOR, ORLANDO, FL | 2/20/2006
MATSUOKA, SHIZUO, ALAMEDA, CA | 2/20/2006
MCKENNA, PETER, ESSEX JUNCTION, VT | 2/20/2006
OCHOA, MIRIAM, YUMA, AZ | 2/20/2006
ONSTINE, CHARLES, FLORENCE, AZ | 2/20/2006
ORTEGA, RAFAEL, ESCONDIDO, CA | 2/20/2006
PETTIS, DONNA, THOMASVILLE, GA | 2/20/2006
PRO, VICKI, CLUNE, PA | 2/20/2006
ROBINSON, ANTHONY, SYRACUSE, NY | 2/20/2006
SIBAL, ROMMEL, NORCO, CA | 2/20/2006
SMITH, HEATHER, BARRE, VT | 2/20/2006
SOLOWAY, JUDI, SAYRE, PA | 2/20/2006
STEVENSON, DEBBIE, BATON ROUGE, LA | 2/20/2006
STEVENSON, GERALDINE, COLORADO SPRINGS, CO | 2/20/2006
SYKES, BOYD, BENTON, AR | 2/20/2006
CONVICTION FOR HEALTH CARE FRAUD
BURR-MCCANN, CAROLINE, ALBANY, NY | 2/20/2006
LICENSE REVOCATION/SUSPENSION/SURRENDERED
ADKINS, BARBARA, HEIDRICK, KY | 2/20/2006
AGOSTINACCHIO, JOSEPH, DELTONA, FL | 2/20/2006
ALEMAN, ADRIANA, BRANDON, FL | 2/20/2006
ALMODOVA, OLGA, YUMA, AZ | 2/20/2006
ANDERSON, ELIZABETH, TEMPE, AZ | 2/20/2006
ANSHUTZ, INGRID, MODESTO, CA | 2/20/2006
AYERS, GEORGE, CUMBERLAND, MD | 2/20/2006
BANNON, BARBARA, BOCA RATON, FL | 2/20/2006
BERLING, KITTY, CHARLOTTE, NC | 2/20/2006
BERTOLDO, JILL, MORGAN HILL, CA | 2/20/2006
BLASS, CLAIRE, DAYTONA BEACH, FL | 2/20/2006
BOLLES, LENORE, MABANK, TX | 2/20/2006
BONTEMPI, BARBARA, GOODYEAR, AZ | 2/20/2006
BOSWELL, DONNA, HOUSTON, TX | 2/20/2006
BOWE, GREGORY, DORCHESTER CENTER, MA | 2/20/2006
BOWMAN, LEWIS, SALT LAKE CITY, UT | 2/20/2006
BRADY, ANDREA, VINE GROVE, KY | 2/20/2006
BRANCH, HEATHERLY, BOYNTON BEACH, FL | 2/20/2006
BRAUER, JOANN, WILDER, VT | 2/20/2006
BRIDGES, GAIL, SAN BERNARDINO, CA | 2/20/2006
BROWN, ADRIENNE, CLARKSDALE, MS | 2/20/2006
BROWN, SARI, BEAUMONT, TX | 2/20/2006
BUCHANAN, BENJAMIN, PENSACOLA, FL | 2/20/2006
CAMERON, LINETTE, ST AUGUSTINE, FL | 2/20/2006
CATAPANO, SANDRA, THOUSAND OAKS, CA | 2/20/2006
CHISHOLM, TAMMY, NEW SMYRNA BEACH, FL | 2/20/2006
CLAUSEN, AUTUMN, YUMA, AZ | 2/20/2006
CLEUSMAN, PATRICIA, WISE, VA | 2/20/2006
COLEMAN, JESSICA, PORTLAND, ME | 2/20/2006
COLEMAN, SUSANNAH, BURLEY, ID | 2/20/2006
CORDOVA, LETICIA, ALAMEDA, CA | 2/20/2006
CORREA, ELTON, GLENDALE, AZ | 2/20/2006
CYPERT, SUNNY, SEARCY, AR | 2/20/2006
DADE, PAMELA, QUINCY, IL | 2/20/2006
DAY, PAMELA, WOOTON, KY | 2/20/2006
DEVORSS, JENNIFER, VALRICO, FL | 2/20/2006
DILLON, JULIE, SWEETWATER, TX | 2/20/2006
DOYLE, BRENDA, CHURCHVILLE, NY | 2/20/2006
DUENAS, CATHERINE, ALOHA, OR | 2/20/2006
DURBIN, DAVID, TUCSON, AZ | 2/20/2006
DYKE, BARBARA, CLAREMONT, NH | 2/20/2006
ELLIS, BETH, GLENDALE, AZ | 2/20/2006
ESTEP, RHONDA, MANCHESTER, KY | 2/20/2006
ESTES, SHELIA, BLUE MOUNTAIN, MS | 2/20/2006
ETTARI, KATHLEEN, ESSEX JUNCTION, VT | 2/20/2006
FELKINS, SUNDAE, OROVILLE, CA | 2/20/2006
FENNER-HALET, THERESA, JACKSONVILLE, FL | 2/20/2006
FERGUSON, RHONDA, CARTHAGE, MS | 2/20/2006
FERNANDO, ROLANDO, RANCHO PALOS VERDES, CA | 2/20/2006
FINCHUM, RACHEL, NEWBURGH, IN | 2/20/2006
GANN, SHARON, MAYFIELD, KY | 2/20/2006
GARCIA, ALBERTO, DOUGLAS, AZ | 2/20/2006
GILBRIDE, ANNETTE, KANSAS CITY, MO | 2/20/2006
GONSHERY, DENISE, BURLINGTON, NJ | 2/20/2006
GONZALES, SHONNA, PHOENIX, AZ | 2/20/2006
GRANT, SHANNON, POST FALLS, ID | 2/20/2006
GRAY, BERTHA, MESA, AZ | 2/20/2006
HARE, GEORGE, CHARLOTTE, NC | 2/20/2006
HARTSOCK, PATRICIA, RICHMOND, VA | 2/20/2006
HAURY, NICOLE, NEW HAVEN, VT | 2/20/2006
HAYDEN, MARILYN, LEBANON, KY | 2/20/2006
HAYNES, CATHYRN, LAKESIDE, CA | 2/20/2006
HERNANDEZ, ANNETTE, TUCSON, AZ | 2/20/2006
HETTINGER, DIANA, LOUISVILLE, KY | 2/20/2006
HILL, CHARLENE, PALM DESERT, CA | 2/20/2006
HOLCOMB, ROBERT, WINTHROP, ME | 2/20/2006
HOLETS, THOMAS, WALKER, MN | 2/20/2006
HONG, MARILYN, FAIRFAX, VA | 2/20/2006
HOOD, MICHAEL, BOWLING GREEN, KY | 2/20/2006
HOUSTON, SHARON, FREMONT, CA | 2/20/2006
HUNZICKER, GLENDA, COVINGTON, KY | 2/20/2006
IRVING, NORMA, AVONDALE, AZ | 2/20/2006
JONES, CAROLE, COMPTON, CA | 2/20/2006
KERN, KAREN, BETHEL PARK, PA | 2/20/2006
KETCHUM, WAYNE, ELK RIVER, ID | 2/20/2006
LANGLEY, CARLEATHA, BYLAS, AZ | 2/20/2006
LEAL, DAVID, HIALEAH, FL | 2/20/2006
LEPSCH, LINDA, SANTA FE, NM | 2/20/2006
LIBBY, PAMELA, HUNTINGTON BEACH, CA | 2/20/2006
LOCKLEAR, MOON, SHANNON, NC | 2/20/2006
MADDIX, DOUGLAS, UTICA, MI | 2/20/2006
MANHEIMER, ELVIRA, KAIBITO, AZ | 2/20/2006
MARKS, KIMBERLY, COBDEN, IL | 2/20/2006
MATHEWS, JOHN, CHICAGO, IL | 2/20/2006
MATT, LEIGH, PORT ARTHUR, TX | 2/20/2006
MCNALLY, JEAN, RIALTO, CA | 2/20/2006
MEDINA, MARIA, SCOTTSDALE, AZ | 2/20/2006
MESA, DAVID, MESA, CA | 2/20/2006
MILLIKAN, KIMBERLY, PROVIDENCE, KY | 2/20/2006
MILLORA, CHARISMA, VALLEJO, CA | 2/20/2006
MITCHELL, LISA, TUPPER LAKE, NY | 2/20/2006
MORGAN, BREE, PITTSFIELD, MA | 2/20/2006
MOULDER, LARRY, TAVARES, FL | 2/20/2006
MUSICK, ROY, ENGLEWOOD, FL | 2/20/2006
NAVAL, DURENOA, NORTH FORT MYERS, FL | 2/20/2006
NEIDERT, KATHLEEN, STOW, OH | 2/20/2006
ORNELAS, RHONDA, LAS VEGAS, NV | 2/20/2006
PAQUETTE, MARK, PALM SPRINGS, CA | 2/20/2006
PARKER, LOIS, PHOENIX, AZ | 2/20/2006
PEGUES, MARY, VERONA, MS | 2/20/2006
PHELPS, MARCIA, HOOKS, TX | 2/20/2006
PHILLIPS, KAREN, CHARLOTTE, NC | 2/20/2006
PIERRE-PAUL, MARIE, OAKLAND PARK, FL | 2/20/2006
PONTO, DENNIS, LANESVILLE, IN | 2/20/2006
PORTER, CHRISTINE, CALAIS, ME | 2/20/2006
POYNTER, KATRINA, GLASGOW, KY | 2/20/2006
PROCTOR, LISA, KINGMAN, AZ | 2/20/2006
PROUDFOOT, THOMAS, BOULDER, CO | 2/20/2006
QUIJANO, MANOLITO, LA PALMA, CA | 2/20/2006
RAINWATER, BELINDA, ALEXANDER CITY, AL | 2/20/2006
RASMUSSEN, ELIZABETH, WHITE STONE, VA | 2/20/2006
REESE, MAXINE, TAMPA, FL | 2/20/2006
REID, SHERRI, NEWPORT, NC | 2/20/2006
RICKER, KYLIE, SHAPLEIGH, ME | 2/20/2006
ROARABAUGH, ROBERT, ENGLEWOOD, FL | 2/20/2006
RODE, CYNTHIA, NAPA, CA | 2/20/2006
ROSENBLATT, PEDRITA, SAINT PETERSBURG, FL | 2/20/2006
ROZAS, ROLAND, MIAMI, FL | 2/20/2006
RUCKER, SHERWIN, BLACKEY, KY | 2/20/2006
SCHACHT, RACHEL, TUCSON, AZ | 2/20/2006
SHARP, ANDREW, MANDEVILLE, LA | 2/20/2006
SHEA, STEVEN, CASSELBERRY, FL | 2/20/2006
SMITH, ALISA, CORONA, CA | 2/20/2006
SMITH, KATHLEEN, ONTARIO, CA | 2/20/2006
SOBCZAK, DEBORAH, VALPARAISO, IN | 2/20/2006
SPITZ, ROBERT, HANOVER, MA | 2/20/2006
STEPHENS, SAUNDRA, WINCHESTER, KY | 2/20/2006
STONE, CHRISTINA, INDIAN TRAIL, NC | 2/20/2006
TAYLOR, AMY, CLINTON, MS | 2/20/2006
THELEN, CAROL, EDGEWOOD, KY | 2/20/2006
THOMAS, CAROLYN, LOS ANGELES, CA | 2/20/2006
TISCHLER, TOBBY, MERIDIAN, TX | 2/20/2006
TRAUDT, MARK, CHINO, CA | 2/20/2006
TRAVIS, SHANNA, LAKE CITY, FL | 2/20/2006
TROTTIER, MARIANNE, NAPLES, FL | 2/20/2006
TRUJILLO, MANUEL, HIALEAH, FL | 2/20/2006
VALDEZ, DELLA, THORNTON, CO | 2/20/2006
VARELAS, MARIA, TUCSON, AZ | 2/20/2006
VEATCH, SHELLY, COLORADO SPRINGS, CO | 2/20/2006
VERDUGO, ADRIANA, CHANDLER, AZ | 2/20/2006
VILLAFUERTE, VICTOR, GILROY, CA | 2/20/2006
WALKER, JERRY, DEL CITY, OK | 2/20/2006
WALLACE, KENT, FLINT, MI | 2/20/2006
WESCOTT, DANA, AURORA, CO | 2/20/2006
WEZA, KIMBERLEY, WESTFORD, MA | 2/20/2006
WILLIAMS, AMY, NAMPA, ID | 2/20/2006
WILLIS, LA VONNE, BEVERLY HILLS, CA | 2/20/2006
WILLIS, SUSIE, BURKESVILLE, KY | 2/20/2006
WITTKOPP, GEORGE, WEST LINN, OR | 2/20/2006
WOOD, DAVID, FORT BRAGG, CA | 2/20/2006
WOOD, RHONDA, FREEPORT, FL | 2/20/2006
WRIGHT, JOYCE, JOYCE, WA | 2/20/2006
FEDERAL/STATE EXCLUSION/SUSPENSION
JONESVILLE FAMILY COUNSELING, JONESVILLE, LA | 2/20/2006
MIRIAM C JONES & ASSOCIATES, NEW ORLEANS, LA | 2/20/2006
OWNED/CONTROLLED BY CONVICTED/ENTITIES
CLARK C MITCHELL, MD, PA, MIAMI BEACH, FL | 2/20/2006
EAST HARRIS COUNTY ORTHOPEDICS ASSOCIATES, PA, HOUSTON, TX | 2/20/2006
GARY BLUMBERG, D O, P L C, DEERFIELD BEACH, FL | 2/20/2006
HOSPITALITY CARE TRANSPORTATION, MILWAUKEE, WI | 2/20/2006
MEADOWREED, INC, MANZANITA, OR | 2/20/2006
MOORE HEARING PC, KALISPELL, MT | 2/20/2006
DEFAULT ON HEAL LOAN
DIEL, TIMOTHY, ORLANDO, FL | 2/20/2006
ORAZIO-VENIZELOS, KAREN, ACTION, MA | 2/20/2006
PHAM, HAU, WALTHAM, MA | 2/20/2006
PHILLIPS, BRIAN, PROSPECT, KY | 2/20/2006
PITMAN, JEFFERY, HARDIN, KY | 2/20/2006
SARRELL, LELAND, JASPER, GA | 2/20/2006
SHANKMAN, RICHARD, OAKLAND GARDENS, NY | 2/20/2006

Dated: February 1, 2006.
Maureen Byer,
Acting Director, Exclusions Staff, Office of Inspector General.

[FR Doc. E6-1763 Filed 2-8-06; 8:45 am]

BILLING CODE 4152-01-P